DEPARTMENT OF DEFENSE

GENERAL SERVICES ADMINISTRATION

NATIONAL AERONAUTICS AND SPACE ADMINISTRATION

48 CFR Part 4

[FAR Case 2009-023; Docket 2010-0094; Sequence 1]

RIN 9000-AL70

Federal Acquisition Regulation; Unique Procurement Instrument Identifiers (PIID)

AGENCY: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to standardize use of Unique Procurement Instrument Identifiers (PIID) throughout the Government. This case defines the requirement for agency unique procurement instrument identifiers and extends the requirement for using PIIDs to all solicitations, contracts, and related procurement instruments across the Federal Government.

DATES: Interested parties should submit written comments to the Regulatory Secretariat on or before October 18, 2010 to be considered in the formulation of a final rule.

ADDRESSES: Submit comments identified by FAR case 2009-023 by any of the following methods:

• Regulations.gov: http://www.regulations.gov. Submit comments via the Federal eRulemaking portal by inputting “FAR Case 2009-023” under the heading “Enter Keyword or ID” and selecting “Search”. Select the link “Submit a Comment” that corresponds with “FAR Case 2009-023”. Follow the instructions provided at the “Submit a Comment” screen. Please include your name, company name (if any), and “FAR Case 2009-023” on your attached document.

• Fax: 202-501-4067.

• Mail: General Services Administration, Regulatory Secretariat (MVCB), 1800 F Street, NW., Room 4041, Attn: Hada Flowers, Washington, DC 20405.

Instructions: Please submit comments only and cite, FAR Case 2009-023, in all correspondence related to this case. All comments received will be posted without change to http://www.regulations.gov, including any personal and/or business confidential information provided.

FOR FURTHER INFORMATION CONTACT: Mr. Karlos Morgan, Procurement Analyst, at (202) 501-2364 for clarification of content. Please cite FAR case 2009-023. For information pertaining to status or publication schedules, contact the Regulatory Secretariat at (202) 501-4755.

SUPPLEMENTARY INFORMATION:

A. Background

In accordance with FAR 4.605(a), agencies are required to have in place a process that ensures that each PIID reported to the Federal Procurement Data System (FPDS) is unique, Governmentwide, and will remain so for at least 20 years from the date of contract award. Additionally, FAR 4.605(a) requires the FPDS Program Management Office to maintain a registry of agency unique identifiers on the FPDS Web site, at https://www.fpds.gov, that consists of alpha characters in the first positions to indicate the agency, followed by alphanumeric characters identifying bureaus, offices, or other administrative subdivisions. However, FAR 4.605(a) does not clearly articulate the specific policies and procedures necessary to ensure standardization of contract data beyond FPDS, thereby causing the potential for duplication of contract data across procurement, finance, and related posting and reporting systems.

Additionally, the lack of specific policies and procedures necessary to ensure standardization of unique PIIDs identified in contract data causes numerous issues with our Governmentwide systems i.e., procurement and finance, and for related posting and reporting systems, resulting in duplication, errors, and discrepancies. This problem increases for contract vehicles that are used by more than one agency. Further, the lack of consistent agency policies and procedures for PIIDs subjects users of contract data, including the Federal Government, contractors, and the public, to potential duplicate, overlapping, or conflicting information from the different Federal agencies. These issues pre-date the reporting requirements of the Federal Funding Accountability and Transparency Act (FFATA) and American Recovery and Reinvestment Act (Recovery Act), but the need to standardize is exacerbated by the Acts' reporting requirements.

Without a consistent means for distinguishing PIIDs for each agency to ensure uniqueness beyond FPDS reporting, it is difficult to report to the level of transparency required by FFATA and the Recovery Act or to transmit contract award information across a myriad of procurement and finance systems. The additional reporting and transparency requirements that are now required, as well as the audits that are now being conducted related to the data reported, highlight the need for unique PIIDs beyond FPDS reporting to eliminate the potential for error, duplication and miscommunication.

Expanding the requirement for PIIDs beyond FPDS reporting will enhance and ensure that agencies understand the need to have unique PIIDs and identify them in contract data to combat the potential issues addressed above. Additionally, clarifying and expanding the requirement for PIIDs in the FAR, to include solicitations, contracts, and related instruments will allow agencies to establish the requirement with their contract writing system.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because it proposes no new requirements on industry, and only provides internal Government policy and procedures. An Initial Regulatory Flexibility Analysis has, therefore, not been performed. The Councils invite comments from small business concerns and other interested parties.

The Councils will consider comments from small entities concerning the affected FAR Part 4 in accordance with 5 U.S.C. 610. Interested parties must submit such comments separately and should cite 5 U.S.C. 601, et seq. (FAR case 2009-023), in correspondence.

C. Paperwork Reduction Act

The Paperwork Reduction Act does not apply because the proposed changes to the FAR do not impose information collection requirements that require the approval of the Office of Management and Budget under 44 U.S.C. Chapter 35, et seq.

List of Subjects in 48 CFR Part 4

Government procurement.

Dated: August 12, 2010.
Edward Loeb,
Director, Acquisition Policy Division.

Therefore, DoD, GSA, and NASA propose amending 48 CFR part 4 as set forth below:

PART 4—ADMINISTRATIVE MATTERS

1. The authority citation for 48 CFR part 4 continues to read as follows:

Authority: 40 U.S.C. 121(c); 10 U.S.C. chapter 137; and 42 U.S.C. 2473(c).

2. Add section 4.001 to read as follows:

4.001 Definitions.

As used in this part—

Procurement Instrument Identifier (PIID) means the Government-unique identifier for each solicitation, contract, agreement, amendment, modification, or order. For example, an agency may use as its PIID for procurement actions, such as delivery and task orders or basic ordering agreements, the order or agreement number in conjunction with the contract number (see 4.1602).

Supplementary procurement instrument identifier means the non-unique identifier for a procurement action that is used in conjunction with the Government-unique identifier. For example, an agency may use as its PIID for an amended solicitation, the Government-unique identifier for a solicitation number (e.g., N0002309R0009) in conjunction with a non-unique amendment number (e.g., 001). The non-unique amendment number represents the supplementary PIID.

3. Amend section 4.605 by revising paragraph (a) to read as follows:

4.605 Procedures.

(a) Procurement Instrument Identifier (PIID). Agencies shall have in place a process that ensures that each PIID reported to FPDS is unique Governmentwide, for all contracts, blanket purchase agreements, basic agreements, basic ordering agreements, amendments, modifications, or orders in accordance with section 4.1601, and will remain so for at least 20 years from the date of contract award. Other pertinent PIID instructions for FPDS reporting can be found at https://www.fpds.gov.

* * * * *

Subpart 4.16—Unique Procurement Instrument Identifiers

4. Add Subpart 4.16 to read as follows:

Sec.
4.1600 Scope of subpart.
4.1601 Policy.
4.1602 Identifying the PIID and supplementary PIID.

Subpart 4.16—Unique Procurement Instrument Identifiers

4.1600 Scope of subpart.

This subpart prescribes policies and procedures for assigning unique procurement instrument identifiers (PIID) for each solicitation, contract, agreement, amendment, modification, or order and related procurement instrument.

4.1601 Policy.

(a) Procurement Instrument Identifier (PIID). Agencies shall have in place a process that ensures that each PIID used to identify a solicitation or contract action is unique Governmentwide, and will remain so for at least 20 years from the date of contract award.

(b) Agencies shall submit their proposed identifier format to the General Services Administration's Integrated Acquisition Environment Program Office, which maintains a registry of the agency-unique identifiers schemes.

(c) The PIID shall consist of alpha characters in the first positions to indicate the agency, followed by alpha-numeric characters according to agency procedures.

(d) Agencies shall use the PIID to identify all solicitations and contract actions and shall include it as the identifier for all contract actions shared with supporting procurement, finance, logistics, and reporting systems (e.g., Federal Procurement Data System, Past Performance Information Reporting System) to enable consistency, traceability, and transparency.

(e) Agencies shall retain the PIID unchanged for the life of the solicitation, contract, blanket purchase agreement, basic agreement, basic ordering agreement, or order unless the conditions in paragraph (f) of this section exist.

(f) If continued use of a PIID is not possible or is not in the Government's best interest solely for administrative reasons (e.g., for lengthy major systems contracts with multiple options or implementations of new agency contracting systems), the contracting officer may assign a new PIID by issuing a modification.

4.1602 Identifying the PIID and supplementary PIID.

(a) Identifying the PIID in solicitation and contract award documentation (including forms and electronic generated formats). Agencies shall include all PIIDs for all related procurement actions as identified in paragraphs (a)(1) through (a)(5) of this section.

(1) Solicitation and amendments. Identify the PIID for all solicitations. For amendments, identify a supplementary PIID, in accordance with agency procedures, in conjunction with the PIID for the solicitation.

(2) Contracts and purchase orders. Identify the PIID for contracts and purchase orders.

(3) Delivery and task orders. For delivery and task orders placed by an agency under a contract (e.g., indefinite-delivery indefinite-quantity (IDIQ) contracts, multi-agency contracts (MAC), Governmentwide acquisition contracts (GWACs) or Multiple Award Schedule (MAS) contracts), identify the PIID for the delivery and task order and the PIID for the contract.

(4) Blanket purchase agreements and basic ordering agreements. Identify the PIID for blanket purchase agreements issued in accordance with FAR 13.303, and for basic agreements and basic ordering agreements issued in accordance with Subpart 16.7. For blanket purchase agreements issued in accordance with Subpart 8.4 under a MAS contract, identify the PIID for the blanket purchase agreement and the PIID for the MAS contract.

(i) Orders. For orders against basic ordering agreements or blanket purchase agreements issued in accordance with FAR 13.303, identify the PIID for the order and the PIID for the blanket purchase agreement or basic ordering agreement.

(ii) Orders under Subpart 8.4. For orders against a blanket purchase agreement established under a MAS contract, identify the PIID for the order, the PIID for the blanket purchase agreement, and the PIID for the MAS contract.

(5) Modifications. For modifications to actions described in paragraphs (a)(2) through (a)(4) of this section, and in accordance with agency procedures, identify a supplementary PIID for the modification in conjunction with the PIID for the contract, order, or agreement being modified.

(b) Placement of the PIID on forms. When the form (including electronic generated format) does not provide spaces or fields for the PIID or supplementary PIID required in paragraph (a) of this section; identify the PIID in accordance with agency procedures.

(c) Additional agency specific identification information. If agency procedures require additional identification information in solicitations, contracts, or other related procurement instruments for administrative purposes, identify it in such a manner so as to separate it clearly from the PIID.

[FR Doc. 2010-20282 Filed 8-16-10; 8:45 am]

BILLING CODE 6820-EP-P